DEPARTMENT OF THE INTERIOR

Fish and Wildlife Service

[Docket No. FWS-R4-ES-2022-0047; FXES11130400000-223-FF04EF4000]

Receipt of Incidental Take Permit Application and Proposed Habitat Conservation Plan for the Sand Skink, Lake County, FL; Categorical Exclusion

AGENCY: Fish and Wildlife Service, Interior.

ACTION: Notice of availability; request for comments and information.

SUMMARY: We, the Fish and Wildlife Service (Service), announce receipt of an application from Kurly Key Properties, LLC (dba KB Home Orlando, LLC/Hills at Mt. Dora) (applicant) for an incidental take permit (ITP) under the Endangered Species Act. The applicant requests the ITP to take the federally listed sand skink incidental to the construction of a residential development in Lake County, Florida. We request public comment on the application, which includes the applicant's proposed habitat conservation plan (HCP), and on the Service's preliminary determination that this HCP qualifies as “low effect,” categorically excluded under the National Environmental Policy Act. To make this determination, we used our environmental action statement and low-effect screening form, both of which are also available for public review.

DATES: We must receive your written comments on or before June 13, 2022.

ADDRESSES:

Obtaining Documents: You may obtain copies of the documents online in Docket No. FWS-R4-ES-2022-0047 at https://www.regulations.gov.

Submitting Comments: If you wish to submit comments on any of the documents, you may do so in writing by any of the following methods:

• Online: https://www.regulations.gov. Follow the instructions for submitting comments on Docket No. FWS-R4-ES-2022-0047.

• U.S. mail: Public Comments Processing, Attn: Docket No. FWS-R4-ES-2022-0047; U.S. Fish and Wildlife Service, MS: JAO/3W, 5275 Leesburg Pike, Falls Church, VA 22041-3803.

FOR FURTHER INFORMATION CONTACT: Erin M. Gawera, by U.S. mail (see ADDRESSES) or via phone at 904-731-3121. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from Kurly Key Properties, LLC (dba KB Home Orlando, LLC) (applicant) for an incidental take permit (ITP) under the Endangered Species Act of 1973, as amended (ESA; 16 U.S.C. 1531 et seq.). The applicant requests the ITP to take the federally listed sand skink (Neoseps reynoldsi) incidental to the construction of a residential development (project) in Lake County, Florida. We request public comment on the application, which includes the applicant's HCP, and on the Service's preliminary determination that this HCP qualifies as “low effect,” categorically excluded under the National Environmental Policy Act (NEPA; 42 U.S.C. 4321 et seq.). To make this determination, we used our environmental action statement and low-effect screening form, both of which are also available for public review.

Project

The applicant requests a 5-year ITP to take sand skinks through the conversion of approximately 0.63 acres (ac) of occupied sand skink foraging and sheltering habitat incidental to the construction of a residential development on a 20.00-ac parcel in Section 33, Township 19 South, Range 27 East, Lake County, Florida, identified by Parcel ID numbers 33-19-27-0003-0000-2400 and 33-19-27-0003-0000-2500. The applicant proposes to mitigate for take of the sand skinks by the purchase of 1.26 credits from Lake Wales Ridge Conservation Bank or another Service-approved Conservation Bank. The Service would require the applicant to purchase the credits prior to engaging in activities associated with the project on the parcel.

Public Availability of Comments

Before including your address, phone number, email address, or other personal identifying information in your comment, be aware that your entire comment, including your personal identifying information, may be made available to the public. While you may request that we withhold your personal identifying information, we cannot guarantee that we will be able to do so.

Our Preliminary Determination

The Service has made a preliminary determination that the applicant's project—including land clearing, infrastructure building, landscaping, and ground disturbance and site preparation activities, along with the proposed mitigation measures—would individually and cumulatively have a minor or negligible effect on the sand skink and the environment. Therefore, we have preliminarily concluded that the ITP for this project would qualify for categorical exclusion and that the HCP is low effect under our NEPA regulations at 43 CFR 46.205 and 46.210. A low-effect HCP is one that would result in (1) minor or negligible effects on federally listed, proposed, and candidate species and their habitats; (2) minor or negligible effects on other environmental values or resources; and (3) impacts that, when considered together with the impacts of other past, present, and reasonable foreseeable similarly situated projects, would not result in significant cumulative effects to environmental values or resources over time.

Next Steps

The Service will evaluate the application and the comments to determine whether to issue the requested permit. We will also conduct an intra-Service consultation pursuant to section 7 of the ESA to evaluate the effects of the proposed take. After considering the preceding and other matters, we will determine whether the permit issuance criteria of section 10(a)(1)(B) of the ESA have been met. If met, the Service will issue ITP number PER0021750 to Kurly Key Properties, LLC (dba KB Home Orlando, LLC).

Authority

The Service provides this notice under section 10(c) of the ESA (16 U.S.C. 1531 et seq.) and its implementing regulations (50 CFR 17.32) and NEPA (42 U.S.C. 4321 et seq.) and its implementing regulations (40 CFR 1506.6 and 43 CFR 46.305).

Robert L. Carey,
Division Manager, Environmental Review, Florida Ecological Services Office.

[FR Doc. 2022-10177 Filed 5-11-22; 8:45 am]

BILLING CODE 4333-15-P